DEPARTMENT OF HEALTH AND HUMAN SERVICES

Meeting of the Presidential Advisory Council on HIV/AIDS

AGENCY: Department of Health and Human Services, Office of the Secretary, Office of Public Health and Science.

ACTION: Notice.

SUMMARY: As stipulated by the Federal Advisory Committee Act, the U.S. Department of Health and Human Services (DHHS) is hereby giving notice that the Presidential Advisory Council on HIV/AIDS (PACHA) will hold a meeting. The meeting will be open to the public.

DATES: The meeting will be held Tuesday, March 25, 2008 and Wednesday, March 26, 2008. The meeting will be held from 9 a.m. to approximately 5 p.m. on both days.

ADDRESSES: Department of Health and Human Services, Room 800, Hubert H. Humphrey Building; 200 Independence Avenue, SW., Washington, DC 20201.

FOR FURTHER INFORMATION CONTACT: Ms. Nancy Barnes, Committee Manager, Presidential Advisory Council on HIV/AIDS, Department of Health and Human Services, 200 Independence Avenue, SW., Room 727G, Hubert H. Humphrey Building, Washington, DC 20201; (202) 205-2311. More detailed information about PACHA can be obtained by accessing the Council's Web site at http://www.Pacha.gov.

SUPPLEMENTARY INFORMATION: PACHA was established by Executive Order 12963, dated June 14, 1995, as amended by Executive Order 13009, dated June 14, 1996. The Council was established to provide advice, information, and recommendations to the Secretary regarding programs and policies intended to (a) promote effective prevention of HIV disease, (b) advance research on HIV and AIDS, and (c) promote quality services to persons living with HIV disease and AIDS. PACHA was established to serve solely as an advisory body to the Secretary of Health and Human Services. The Council is composed of not more than 21 members. Council membership is selected by the Secretary from individuals who are considered authorities with particular expertise in, or knowledge of, matters concerning HIV and AIDS.

The agenda for this Council meeting is being developed. The meeting agenda will be posted on the Council's Web site when it is drafted.

Public attendance at the meeting is limited to space available. Individuals must provide a photo ID for entry into the meeting. Individuals who plan to attend and need special assistance, such as sign language interpretation or other reasonable accommodations, should notify the designated contact person. Pre-registration for public attendance is advisable and can be accomplished online by accessing the PACHA Web site, http://www.Pacha.gov.

Members of the public will have the opportunity to provide comments at the meeting. Pre-registration is required for public comment. any individual who wishes to participate in the public comment session must register online at http://www.Pacha.gov; registration for pubic comment will not be accepted by telephone. Public comment will be limited to three minutes per speaker. Any members of the public who wish to have printed material distributed to PACHA members for discussion at the meeting should submit, at a minimum, one copy of the materials to the Committee Manager, PACHA no later than close of business on March 21, 2008. Contact information for the PACHA Committee Manager is listed above.

Dated: February 21, 2008.
Mary (Marty) McGeein,
Executive Director, Presidential Advisory Council on HIV/AIDS.

[FR Doc. 08-884 Filed 2-27-08; 8:45 am]

BILLING CODE 4150-28-M